DEPARTMENT OF STATE

[Public Notice 8031]

Shipping Coordinating Committee; Notice of Committee Meeting

The Shipping Coordinating Committee (SHC) will conduct an open meeting at 9:30 a.m. on Friday, October 26, 2012, in Room 1200 of the United States Coast Guard Headquarters Building, 2100 Second Street, SW., Washington, DC 20593-7126. The primary purpose of the meeting is to prepare for the one-hundred and ninth Session of the IMO Council Session (C 109) to be held at the IMO Headquarters, United Kingdom, from November 5-9, 2012.

The agenda items to be discussed include:

—Adoption of the agenda

—Report of the Secretary-General on credentials

—Strategy, planning and reform

—Resource management:

—Human resource matters, including amendments to the Staff Regulations and Staff Rules

—Recommendations of the External Auditor: implementation action plan

—Report on arrears of contributions and of advances to the Working Capital Fund and on the implementation of Article 61 of the IMO Convention

—Budget considerations for 2012 and 2013

—Development of a long-term plan for the future financial sustainability of the Organization

—Voluntary IMO Member State Audit Scheme

—Consideration of the report of the Marine Environment Protection Committee

—Report on the 34th Consultative Meeting of Contracting Parties to the London Convention 1972 and the 7th Meeting of Contracting Parties to the 1996 Protocol to the London Convention

—Report on the 2012 Conference for the adoption of an agreement on the implementation of the 1993 Protocol relating to the 1977 Torremolinos Convention on the Safety of Fishing Vessels

—IMO International Maritime Law Institute: review of the IMLI Statute

—Protection of vital shipping lanes

—Periodic review of administrative requirements in mandatory IMO instruments

—External relations:

—Relations with the United Nations and the specialized agencies

—Joint Inspection Unit

—Relations with intergovernmental organizations

—Relations with non-governmental organizations

—Day of the Seafarer

—Report on World Maritime Day 2012

—Report on the status of the Convention and membership of the Organization

—Report on the status of conventions and other multilateral instruments in respect of which the Organization performs functions

—Substantive items for inclusion in the provisional agendas for the next two sessions of the Council

—Place, date and duration of the next session of the Council

—Supplementary agenda items, if any

Members of the public may attend this meeting up to the seating capacity of the room. To facilitate the building security process, those who plan to attend should contact the meeting coordinator, LCDR Matthew Frazee, by email at imo@uscg.mil; by phone at (202) 372-1376; or in writing at Commandant (CG-5PS), U.S. Coast Guard Headquarters, 2100 2nd Street SW STOP 7126, Room 1200, Washington, DC 20593-7126, not later than 7 days before the meeting. Please note that due to security considerations, two valid, government issued photo identifications must be presented to gain entrance to the Headquarters building. The Headquarters building is accessible by taxi and privately owned conveyance (public transportation is not generally available), however, parking in the vicinity of the building is extremely limited. Additional information regarding this and other IMO SHC public meetings may be found at: www.uscg.mil/imo.

Dated: September 12, 2012.
Brian Robinson,
Executive Secretary, Shipping Coordinating Committee, Department of State.

[FR Doc. 2012-23007 Filed 9-17-12; 8:45 am]

BILLING CODE 4710-09-P